DEPARTMENT OF THE INTERIOR

Fish and Wildlife Service

Intent To Prepare a Management Plan and Environmental Impact Statement for Bison and Elk at the National Elk Refuge and Grand Teton National Park in Teton County, Wyoming

AGENCY: Fish and Wildlife Service and National Park Service, Department of the Interior.

ACTION: Notice of intent.

SUMMARY: This notice advises the public that the Fish and Wildlife Service (FWS) and National Park Service (NPS), in cooperation with the USDA Animal and Plant Health Inspection Service (APHIS) and the Bridger-Teton National Forest (BTNF), are beginning to prepare a management plan and environmental impact statement (EIS) for management of bison and elk in the National Elk Refuge (NER) and Grand Teton National Park (GTNP) in Wyoming. Bison and elk utilizing these areas comprise a large portion of the “Jackson Bison and Elk Herds.” The planning/EIS process will involve analysis of ecosystem level conditions and actions which affect management of bison and elk on the park and refuge and will develop herd management alternatives for accomplishing the goals, objectives, and purposes of the NER and GTNP. Since most bison and elk utilizing these areas at some time during the year also utilize other areas during other periods of the year, the planning process will involve all agencies having some authority over the same animals. The FWS and NPS are lead agencies and the USDA Forest Service and APHIS are cooperating agencies in the preparation of the EIS. The State of Wyoming has not yet determined its level of involvement in the project.

This notice is being furnished as required by the National Environmental Policy Act (NEPA) Regulations (40 CFR 1501.7) to obtain suggestions and information from other agencies and the public on the scope of issues to be addressed in the EIS. Comments and participation in this scoping process are herein solicited. Additional notices of information/document availability and requests for comments and participation will be published at appropriate times in the process

DATES: Written comments on the scope of issues should be received by the Jackson Bison and Elk Assistant Project Leader (see ADDRESSES, below) by August 24, 2001. Prescoping public meetings were held in Wyoming from February 10 through May 5, 2001. All project-related comments received by the project team prior to this notice (e.g. in prescoping) will be incorporated into the scoping record and considered in the process.

The project scoping meetings listed below have been scheduled. A project mailing list was begun with the prescoping process. Mailers advising of the meetings listed below, and all additional public meetings for the project, will be sent to all individuals and organizations on the project mailing list. Requests for addition to the mailing list can be made by correspondence to the assistant project leader (see ADDRESSES, below). Information related to all project meetings may be viewed at the project website via: <http://bisonandelkplan.fws.gov/>.

Jackson Bison and Elk Management Plan/EIS Scoping Meetings
Date | City | Location
Friday, July 20, 2001 | Jackson, WY | Commissioners' Chamber (200 S. Willow)
Saturday, July 21, 2001 | Rock Springs, WY | Holiday Inn (1675 Sunset Drive)
Monday, July 23, 2001 | Idaho Falls, ID | Quality Inn (850 Lindsay Blvd.)
Tuesday, July 24, 2001 | Bozeman, MT | Best Western Grantree (1325 N. 7th)
Wednesday, July 25, 2001 | Sheridan, WY | Best Western Sheridan Center (612 N. Main)
Thursday, July 26, 2001 | Casper, WY | Holiday Inn (300 W. “F” St.)
Friday, July 27, 2001 | Riverton, WY | City Hall (816 N. Federal Blvd.)
Wednesday, August 1, 2001 | Cheyenne, WY | Little America (2800 W. Lincolnway)
Thursday, August 2, 2001 | Lakewood, CO | Denver Sheraton West (360 Union Blvd.)
Friday, August 3, 2001 | Arlington, VA | Holiday Inn at Ballston (4610 N. Fairfax Dr.)

All meetings will be from 6:30 to 8:30pm.

This information will also be available on the website, sent to the mailing list, announced by local radio stations, and published in local newspapers.

ADDRESSES: Send written comments, and/or requests to be added to the mailing list, to Don DeLong, Assistant Project Leader, Jackson Bison and Elk Management Planning Office, PO Box 510, Jackson, Wyoming 83001, USA. Phone: 307-733-9212 extension 235, or via email to <bison/elk_planning@fws.gov>

FOR FURTHER INFORMATION CONTACT: The Assistant Project Leader listed above, or Dr. Dan E. Huff, Project Leader, US Fish and Wildlife Service, Region 6, Box 25486, Denver Federal Center, Denver, CO 80225, USA. Phone: 303-236-8145 extension 605.

SUPPLEMENTARY INFORMATION: Dan Huff and Don DeLong are primary authors of this document.

GTNP and the NER border one another and are located just north of Jackson, in northwestern Wyoming. Together with the BTNF, they make up most of the southern half of the Greater Yellowstone Ecosystem. The NER comprises about 25,000 acres and the GTNP, about 304,000 acres. The Jackson Bison and Elk Herds make up one of the largest concentrations of free-ranging ungulates in North America. Currently, these herds total approximately 600 bison and 14,000 elk. The herds migrate across several jurisdictional boundaries including GTNP and southern Yellowstone National Park, the BTNF, Bureau of Land Management resource areas, and state and private lands, before they over-winter on the BTNF and the NER. Because of the wide range of authorities and interests, including cooperative management by the State of Wyoming on most federal lands, the NPS and FWS are seeking a cooperative approach to management planning involving all of the associated federal and state agencies and a broad range of organized and private interests.

A management plan (Jackson Bison Herd Long Term Management Plan and Environmental Assessment) was developed by GTNP and the NER, in cooperation with and Wyoming Game and Fish Department and the BTNF, for the Jackson Bison Herd and finalized in September, 1996. A Record of Decision (ROD) for that document was approved in 1997. But, a lawsuit was brought by the Fund for Animals (FFA) in 1998 enjoining most federal management actions proposed in the 1996 plan. The court ruled that destruction of bison on federal lands for population control purposes could not be carried out until additional NEPA compliance was completed for those actions. The court also directed that additional NEPA compliance consider the effects of elk winter-feeding by the FWS on the NER, on the Jackson bison population.

The Refuge Improvement Act of 1997 requires that “Comprehensive Conservation Plans” (CCPs) be developed for all national wildlife refuges. For the NER, elk management, including winter-feeding would make up the most significant issue in that CCP. In order to coordinate the compliance required for NER and GTNP bison and elk management under NEPA itself, the FFA lawsuit, and the Refuge Improvement Act, and since many management actions for one affect both species, this planning/compliance process was proposed by GTNP and the NER, and directed by the DOI Assistant Secretary for Fish and Wildlife and Parks in 1999.

A series of prescoping public meetings was held on this project, prior to formal scoping, to share information and demonstrate interests in future desired conditions by the wide range of interests. Results of these meetings are available on the project WebPage. While formal identification of project scope, including issues to be addressed, will be carried out in the scoping process, information from the prescoping meetings make it likely that bison and elk population size, habitat impacts of bison and elk and habitat management, associated recreation (including hunting programs), winter-feeding, and disease management will all be addressed. These issues may be redefined, and additional issues are likely to be identified.

Estimated dates for milestones in this process are listed below. Any revised dates will be provided in newsletters to the project mailing list, in news releases, and at the website.

Situation Assessment (completed)—September 21, 2000;

Prescoping Meetings (completed)—February 10-May 5, 2001;

Notice of Intent” published in Federal Register—July 15, 2001;

Scoping Meetings—July 20-August 3, 2001;

Draft Plan/EIS available to the public—September 15, 2002;

Final Plan/EIS available to the public—September 15, 2003;

“Record of Decision” published in Federal Register—January 1, 2004.

Dated: July 17, 2001.
Duane K. McDermond,
Regional Chief, National Wildlife Refuge System.

[FR Doc. 01-17960 Filed 7-17-01; 8:45 am]

BILLING CODE 4310-55-P